NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by December 19, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-027

1. Applicant: Prash Karnik, Director Maritime Operations, Seabourn Quest, Seabourn Cruise Line Ltd., 300 Elliot Avenue West, WA 98119 U.S.A.

Activity for Which Permit is Requested:Waste management. The applicant wishes to fly small, battery operated, remotely controlled copters equipped with a cameras to take scenic photos and film of the Antarctic. The UAVs would not be flown over concentrations of birds or mammals or over Antarctic Specially Protected Areas. The UAVs would only be flown by operators with extensive experience (>20 hours), who are pre-approved by the Expedition Leader. Several measures would be taken to prevent against loss of the UAV including painting the them a highly visible color; only flying when the wind is less than 25 knots; flying for only 15 minutes at a time to preserve battery life; having prop guards on propeller tips, a flotation device if operated over water, and a “go home” feature in case of loss of control link or low battery; having an observer on the lookout for wildlife, people, and other hazards; and ensuring that the separation between the operator and UAV does not exceed an operational range of 500 meters. The applicant is seeking a Waste Permit to cover any accidental releases that may result from flying a UAV.

Location: Antarctic Peninsula region.

Dates: November 1, 2016-March 31, 2017.

Permit Application: 2017-028

2. Applicant: James Drony, Vice President, Itinerary and Destination Planning, The World of Residensea II, Ltd., 1551 Sawgrass Corporate Parkway, Suite 200, Fort Lauderdale, FL 33323.

Activity for Which Permit is Requested: Waste management. The applicant wishes to fly small, battery operated, remotely controlled copters equipped with a cameras to take scenic photos and film of the Antarctic. The UAVs would not be flown over concentrations of birds or mammals or over Antarctic Specially Protected Areas. The UAVs would only be flown by operators with extensive experience (>20 hours), who are pre-approved by the Expedition Leader. Several measures would be taken to prevent against loss of the UAV including painting the them a highly visible color; only flying when the wind is less than 25 knots; flying for only 15 minutes at a time to preserve battery life; having prop guards on propeller tips, a flotation device if operated over water, and a “go home” feature in case of loss of control link or low battery; having an observer on the lookout for wildlife, people, and other hazards; and ensuring that the separation between the operator and UAV does not exceed an operational range of 500 meters. The applicant is seeking a Waste Permit to cover any accidental releases that may result from flying a UAV.

Location: Balleny Islands; Cape Adare; Cape Hallett; Terra Nova Bay; Ross Sea; Bay of Whales; Possession Islands.

Dates: January 15, 2017—March 31, 2017.

Permit Application: 2017-030

3. Applicant: John Durban, Marine Mammal and Turtle Division, NOAA, NMFS, Southwest Fisheries Science Center, 8901 La Jolla Shores Dr., La Jolla CA USA 92037.

Activity for Which Permit is Requested: Waste management. Short <20 minute flights will be conducted with a small (32” across) unmanned hexacopter (APH-22) to collect photogrammetry images and blow samples from whales. Flights will only be conducted over open water off the coast of the Antarctic Peninsula, and all flights will be within line-of-site (<1600', 500m) of the pilot who will operate the hexacopter using radio control from a Zodiac boat. The hexacopter will be hand deployed and caught by a ground station operator on the same boat. All flights will be in daylight hours, and only during good weather (winds and seas calm and visibility >1nm). The hexacopter is powered by a 4-cell Lithium Polumner (LiPo) battery, so there will be no exhaust discharges. Additional measures to mitigate loss of the aircraft include: Firmware modifcations, “come home” feature, and high-visibility buoyancy devices.

Location: Antarctic Peninsula region.

Dates: January 1, 2017-May 31, 2021.

Permit Application: 2017-031

4. Applicant: Ashley Perrin, Antarctic Ice Pilot, PO Box 623, Mill Valley, CA 94942.

Activity for Which Permit is Requested: Waste management. Applicant requests that the yacht M/Y CaryAli be allowed to operate in the Antarctic Treaty area, to cruise along the Antarctic Peninsula for tourism and sightseeing purposes. Applicant proposes to make select stops at non-protected area landings, for day-time sightseeing. Applicant intends to follow Appendix 2 for all food waste and garbage, and the boat has an onboard sewage treatment plant that meets MARPOL 6 standards. Contingency plans are in place in case of accidental releases to the environment.

Location: South Shetland Islands; Antarctic Peninsula region.

Dates: February 4-March 4, 2017.

Permit Application: 2017-035

5. Applicant:

Bob Simpson, Vice President, Expedition Cruising, Abercrombie & Kent USA LLC, 1411 Opus Place, Executive Towers West II, Suite #300, Downers Grove, Illinois 60515-1182.

Activity for Which Permit is Requested:Waste management. The applicant wishes to fly small, battery operated, remotely controlled copters equipped with a cameras to take scenic photos and film of the Antarctic. The UAVs would not be flown over concentrations of birds or mammals or over Antarctic Specially Protected Areas. The UAVs would only be flown by operators with extensive experience (>20 hours), who are pre-approved by the Expedition Leader. Several measures would be taken to prevent against loss of the UAV including painting the them a highly visible color; only flying when the wind is less than 25 knots; flying for only 15 minutes at a time to preserve battery life; having prop guards on propeller tips, a flotation device if operated over water, and a “go home” feature in case of loss of control link or low battery; having an observer on the lookout for wildlife, people, and other hazards; and ensuring that the separation between the operator and UAV does not exceed an operational range of 500 meters. The applicant is seeking a Waste Permit to cover any accidental releases that may result from flying a UAV.

Location: Antarctic Peninsula region.

Dates: December 23-30, 2016.

Nadene G. Kennedy,
Polar Coordination Specialist, Division of Polar Programs.

[FR Doc. 2016-27789 Filed 11-17-16; 8:45 am]

BILLING CODE 7555-01-P